DEPARTMENT OF COMMERCE

Foreign-Trade Zones Board

[S-64-2018]

Approval of Subzone Expansion; Brake Parts Inc.; Hazleton, Pennsylvania

On April 30, 2018, the Executive Secretary of the Foreign-Trade Zones (FTZ) Board docketed an application submitted by the Eastern Distribution Center, Inc., grantee of FTZ 24, requesting an expansion of Subzone 24E on behalf of Brake Parts Inc in Hazleton, Pennsylvania.

The application was processed in accordance with the FTZ Act and Regulations, including notice in the Federal Register inviting public comment (83 FR 19524, May 3, 2018). The FTZ staff examiner reviewed the application and determined that it meets the criteria for approval. Pursuant to the authority delegated to the FTZ Board Executive Secretary (15 CFR 400.36(f)), the application to expand Subzone 24E was approved on June 26, 2018, subject to the FTZ Act and the Board's regulations, including Section 400.13, and further subject to FTZ 24's 2,000-acre activation limit.

Dated: June 26, 2018.
Elizabeth Whiteman,
Acting Executive Secretary.

[FR Doc. 2018-14026 Filed 6-28-18; 8:45 am]

BILLING CODE 3510-DS-P